DEPARTMENT OF COMMERCE

National Oceanic and Atmospheric Administration

[I.D. 050107N]

Taking and Importing Marine Mammals; Increasing Usage and Enhancing Capability of the U.S. Navy's Hawaii Range Complex

AGENCY: National Marine Fisheries Service (NMFS), National Oceanic and Atmospheric Administration (NOAA), Commerce.

ACTION: Notice; receipt of application for letter of authorization; request for comments and information.

SUMMARY: NMFS has received a request from the U.S. Navy (Navy) for authorization for the take of marine mammals incidental to the training events conducted within the Hawaii Range Complex (HRC) for the period of July 2008 through July 2013. Pursuant to the Marine Mammal Protection Act (MMPA), NMFS is announcing our receipt of the Navy's request for the development and implementation of regulations governing the incidental taking of marine mammals and inviting information, suggestions, and comments on the Navy's application and request.

DATES: Comments and information must be received no later than August 31, 2007.

ADDRESSES: Comments on the application should be addressed to Michael Payne, Chief, Permits, Conservation and Education Division, Office of Protected Resources, National Marine Fisheries Service, 1315 East-West Highway, Silver Spring, MD 20910-3225. The mailbox address for providing email comments is PR1.050107N@noaa.gov. NMFS is not responsible for e-mail comments sent to addresses other than the one provided here. Comments sent via e-mail, including all attachments, must not exceed a 10-megabyte file size.

FOR FURTHER INFORMATION CONTACT: Jolie Harrison, Office of Protected Resources, NMFS, (301) 713-2289, ext. 166.

SUPPLEMENTARY INFORMATION:

Availability

A copy of the Navy's application may be obtained by writing to the address specified above

(See ADDRESSES), telephoning the contact listed above (see FOR FURTHER INFORMATION CONTACT), or visiting the internet at: http://www.nmfs.noaa.gov/pr/permits/incidental.htm. The Navy's Draft Environmental Impact Statement (DEIS) for the Hawaii Range Complex was made available to the public on July 27th, 2007, and may be viewed at http://www.govsupport.us/hrc. Because NMFS is participating as a cooperating agency in the development of the Navy's DEIS for the Hawaii Range Complex, NMFS staff will be present at the associated public meetings and prepared to discuss NMFS' participation in the development of the EIS as well as the MMPA process for the issuance of incidental take authorizations. The dates and times of the public meetings may be viewed at: http://www.govsupport.us/hrc.

Background

Sections 101(a)(5)(A) and (D) of the MMPA (16 U.S.C. 1361 et seq.) direct the Secretary of Commerce (Secretary) to allow, upon request, the incidental, but not intentional taking of marine mammals by U.S. citizens who engage in a specified activity (other than commercial fishing) if certain findings are made and regulations are issued or, if the taking is limited to harassment, notice of a proposed authorization is provided to the public for review.

Authorization for incidental takings may be granted if NMFS finds that the taking will have no more than a negligible impact on the species or stock(s), will not have an unmitigable adverse impact on the availability of the species or stock(s) for subsistence uses, and that the permissible methods of taking and requirements pertaining to the mitigation, monitoring and reporting of such taking are set forth.

NMFS has defined “negligible impact” in 50 CFR 216.103 as:

an impact resulting from the specified activity that cannot be reasonably expected to, and is not reasonably likely to, adversely affect the species or stock through effects on annual rates of recruitment or survival.

With respect to military readiness activities, the MMPA defines “harassment” as:

(i) any act that injures or has the significant potential to injure a marine mammal or marine mammal stock in the wild [Level A Harassment]; or (ii) any act that disturbs or is likely to disturb a marine mammal or marine mammal stock in the wild by causing disruption of natural behavioral patterns, including, but not limited to, migration, surfacing, nursing, breeding, feeding, or sheltering, to a point where such behavioral patterns are abandoned or significantly altered [Level B Harassment].

Summary of Request

On June 25, 2007, NMFS received an application from the Navy requesting authorization for the take of 26 species of marine mammals incidental to upcoming Navy training activities to be conducted within the HRC, which covers 235,000 nm² around the Main Hawaiian Islands (see page 17 of the application), over the course of 5 years. These training activities are classified as military readiness activities. The Navy states that these training activities may expose some of the marine mammals present within the HRC to sound from hull-mounted mid-frequency active tactical sonar or to underwater detonations. The Navy requests authorization to take 26 species of marine mammals by Level B Harassment. Further, the Navy requests authorization to take 20 individual marine mammals per year by serious injury or mortality (2 each of the following: bottlenose dolphin, Kogia spp., melon-headed whale, pantropical spotted dolphin, pygmy killer whale, short-finned pilot whale, striped dolphin, and Cuvier's, Longman's, and Blainesville's beaked whale).

Specified Activities

The Navy has prepared a Draft Environmental Impact Statement analyzing the effects on the human environment of implementing their preferred alternative (among other alternatives), which includes conducting current and emerging training and research, development, test, and evaluation (RDT&E) operations in the HRC. The HRC complex consists of targets and instrumented areas, airspace, surface operational areas (OPAREAS), and land range facilities. The activities described in the EIS include current and future proposed Navy training and RDT&E operations within Navy-controlled OPAREAs, airspace, and ranges, and Navy-funded range capabilities enhancements (including infrastructure improvement).

In the application submitted to NMFS, the Navy requests authorization for take of marine mammals incidental to conducting a subset of the activities analyzed in the EIS. Table 1-1 in the application lists the categories of Navy training operations and RDT&E operations and indicates those that the Navy believes: (1) could potentially result in harassment of marine mammals through exposure to underwater detonations; (2) could potentially result in harassment of marine mammals through exposure to tactical mid-frequency sonar; and, (3) do not have the potential to harass marine mammals. The Navy is requesting authorization for take incidental to the following categories of Navy training operations: (1) Naval Surface Fire Support Exercises, (2) Surface-to-Surface Gunnery Exercises, (3) Surface-to-Surface Missile Exercises, (4) Air-to-Surface Missile Exercises, (5) Bombing Exercises, (6) Sink Exercises, (7) Mine Neutralization, (8) Anti-submarine Warfare (ASW) Tracking Exercises, (9) ASW Torpedo Exercises, and (10) Major Integrated ASW Training Exercises (such as RIMPAC, USWEX, and Multiple Strike Group Exercises).

Information Solicited

Interested persons may submit information, suggestions, and comments concerning the Navy's request (see ADDRESSES). All information, suggestions, and comments related to the Navy's HRC request and NMFS' potential development and implementation of regulations governing the incidental taking of marine mammals by the Navy in the HRC will be considered by NMFS in developing, if appropriate, the most effective regulations governing the issuance of letters of authorization.

Dated: July 26, 2007.
James H. Lecky,
Director, Office of Protected Resources, National Marine Fisheries Service.

[FR Doc. E7-14891 Filed 7-31-07; 8:45 am]

BILLING CODE 3510-22-S